DEPARTMENT OF COMMERCE

National Oceanic and Atmospheric Administration

[RTID 0648-XC479]

Fisheries of the South Atlantic; South Atlantic Fishery Management Council; Public Meetings

AGENCY: National Marine Fisheries Service (NMFS), National Oceanic and Atmospheric Administration (NOAA), Commerce.

ACTION: Notice of a seminar series presentation via webinar.

SUMMARY: The South Atlantic Fishery Management Council (Council) will host a presentation on a citizen-science approach to characterize shark depredation in recreational fisheries via webinar November 8, 2022. The presentation is part of an on-going seminar series hosted by the Council on scientific studies relevant to fisheries in federal waters off the South Atlantic U.S. coast.

DATES: The webinar presentation will be held on Tuesday, November 8, 2022, from 1 p.m. until 2:30 p.m.

ADDRESSES: The presentation will be provided via webinar. The webinar is open to members of the public. Information, including a link to webinar registration will be posted on the Council's website at: https://safmc.net/safmc-seminar-series/ as it becomes available.

Council address: South Atlantic Fishery Management Council, 4055 Faber Place Drive, Suite 201, N. Charleston, SC 29405.

FOR FURTHER INFORMATION CONTACT: Kim Iverson, Public Information Officer, SAFMC; phone: (843) 302-8439 or toll free: (866) SAFMC-10; fax: (843) 769-4520; email: kim.iverson@safmc.net.

SUPPLEMENTARY INFORMATION: The Council will host a presentation from Florida Atlantic University and Mississippi State Sea Grant entitled “A Citizen-science Approach to Characterize Shark Depredation in Recreational Fisheries”. The presentation will address depredation, defined as the partial or complete removal of a target species by a non-target species. Depredation is an increasingly topical human-wildlife conflict worldwide. Effectively managing and mitigating depredation requires a comprehensive characterization of the interaction; however, our current understanding of depredation is limited. Thus, the goals of this project were to combine content analysis, angler surveys, and molecular tools to characterize depredation in Florida's recreational hook and line fishery. A question-and-answer session will follow the presentation. Members of the public will have the opportunity to participate in the discussion. The presentation is for informational purposes only and no management actions will be taken.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: October 18, 2022.
Rey Israel Marquez,
Acting Deputy Director, Office of Sustainable Fisheries, National Marine Fisheries Service.

[FR Doc. 2022-22963 Filed 10-20-22; 8:45 am]

BILLING CODE 3510-22-P